FEDERAL COMMUNICATIONS COMMISSION

Notice of Public Information Collection(s) Being Reviewed by the Federal Communications Commission, Comments Requested

January 5, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 13, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0692.

Title: Home Wiring Provisions.

Form Number: n/a.

Type of Review: Extension of a currently approved collection.

Respondents: Individuals or households; Business and other for-profit entities.

Number of Respondents: 30,500.

Estimated Time Per Response: .5-5 hours estimated for both the petition and complaint process.

Total Annual Burden: 46,114 hours.

Total Annual Costs: $37,510.

Needs and Uses: The information collection requirements reported under this control number are necessary in order to protect consumers from unnecessary disruption of service and expense caused by removal of home wiring and to allow consumers to use the wiring for service received from alternative MVPD's.

Federal Communications Commission.
Magalie Roman Salas,
Secretary.

[FR Doc. 01-1036 Filed 1-11-01; 8:45 am]

BILLING CODE 6712-01-U